DEPARTMENT OF COMMERCE

International Trade Administration

[A-570-836]

Glycine From the People's Republic of China: Notice of Final Results of Antidumping Duty Changed Circumstances Review

AGENCY: Enforcement and Compliance, International Trade Administration, Department of Commerce.

SUMMARY: The U.S. Department of Commerce (Commerce) determines, in the context of this changed circumstances review (CCR) of the antidumping duty (AD) order on glycine from the People's Republic of China (China), that Salvi Chemical Industries Ltd. (Salvi) is ineligible to participate in the importer certification process because Salvi failed to demonstrate that it no longer uses Chinese-origin glycine in its production process and failed to demonstrate that it maintains its books and records to accurately document the origin of the in-scope materials entering its inventory which are used to process glycine. As a result, glycine produced, processed, or exported by Salvi continues to be subject to the AD order on glycine from China.

DATES: Applicable March 4, 2026.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

On April 1, 2025, Commerce published the Preliminary Results of this CCR, determining that Salvi demonstrated that it eliminated the use of Chinese inputs from its processing of glycine in fiscal years 2021-2022 and 2022-2023 and that it maintains its books and records to accurately document the origin of the in-scope materials entering its inventory which are used to process glycine.¹

¹ See Glycine from the People's Republic of China: Notice of Preliminary Results of Antidumping Duty Changed Circumstances Review, 90 FR at 14359 (April 1, 2025) (Preliminary Results).

Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³ Between April 2025 and February 2026, Commerce extended the deadline for these final results of review.⁴ Accordingly, the deadline for these final results is now February 27, 2026.⁵ For a complete description of the events that followed the Preliminary Results, see the Issues and Decision Memorandum.⁶

² See Memorandum, “Deadlines Affected by the Shutdown of the Federal Government,” dated November 14, 2025.

³ See Memorandum, “Tolling of all Case Deadlines,” dated November 24, 2025.

⁴ See Memoranda, “Extension of Deadline for Final Results of Changed Circumstances Review,” dated April 11, 2025; “Extension of Deadline for Final Results of Changed Circumstances Review,” dated June 20, 2025; “Extension of Deadline for Final Results of Changed Circumstances Review,” dated September 12, 2025; “Extension of Deadline for Final Results of Changed Circumstances Review,” dated November 25, 2025; and “Extension of Deadline for Final Results of Changed Circumstances Review,” dated February 10, 2026.

⁵ See Memorandum, “Extension of Deadline for Final Results of Changed Circumstances Review,” dated February 10, 2026.

⁶ See Memorandum, “Issues and Decision Memorandum for the Final Results of Changed Circumstances Review of the Antidumping Duty Order on Glycine from the People's Republic of China; Salvi Chemical Industries Ltd.,” dated concurrently with, and hereby adopted by, this notice (Issues and Decision Memorandum).

Scope of the Order ⁷

⁷ See Antidumping Duty Order: Glycine from the People's Republic of China, 60 FR 16116 (March 29, 1995) (Order).

The product covered by the Order is glycine, which is a free-flowing crystalline material, like salt or sugar. For a complete description of the scope of the Order, see the Issues and Decision Memorandum.⁸

⁸ See Issues and Decision Memorandum at 3.

Analysis of Comments Received

All issues raised are addressed in the Issues and Decision Memorandum,⁹ and are listed in the appendix to this notice. The Issues and Decision Memorandum is a public document and is on file electronically via ACCESS. ACCESS is available to registered users at https://access.trade.gov. In addition, a complete version of the Issues and Decision Memorandum can be accessed directly at https://access.trade.gov/public/FRNoticesListLayout.aspx.

⁹ Id. at 4-9.

Final Results of Changed Circumstances Review

Commerce finds that, based upon the record of this CCR, Salvi failed to demonstrate that it no longer uses Chinese-origin glycine and is ineligible to participate in the importer certification process ¹⁰ because, after further review of the record evidence and comments submitted, we find that Salvi failed to maintain its books and records to accurately document the origin of the in-scope China-origin glycine entering its inventory which is used to process glycine. As a result, glycine produced, processed, or exported by Salvi continues to be subject to the Order on glycine from China.

¹⁰ See Glycine from the People's Republic of China: Final Partial Affirmative Determination of Circumvention of the Antidumping Duty Order, 77 FR 73426, 73427 (December 10, 2012).

Administrative Protective Order (APO)

This notice serves as a final reminder to parties subject to an APO of their responsibility concerning the disposition of proprietary information disclosed under APO in accordance with 19 CFR 351.305(a)(3). Timely written notification of the return or destruction of APO materials or conversion to a judicial protective order is hereby requested. Failure to comply with the regulations and terms of an APO is a sanctionable violation.

Notification to Interested Parties

This notice is published in accordance with sections 751(b) and 777(i) of the Act, and 19 CFR 351.216, 19 CFR 351.221(c)(3), and 19 CFR 351.222(g).

Dated: February 27, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether Commerce Can Conduct a Changed Circumstances Review with Respect to Salvi

Comment 2: Whether Salvi Has Demonstrated that It No Longer Uses Chinese Glycine Inputs and Is Able to Identify the Country of Origin of Its Glycine Inputs

VI. Recommendation

[FR Doc. 2026-04323 Filed 3-3-26; 8:45 am]

BILLING CODE 3510-DS-P